JUDICIAL CONFERENCE OF THE UNITED STATES

Meeting of the Judicial Conference Advisory Committee on Rules of Civil Procedure

AGENCY: Judicial Conference of the United States Advisory Committee on Rules of Civil Procedure.

ACTION: Notice of open meeting.

SUMMARY: The Advisory Committee on Rules of Civil Procedure will hold a two-day meeting. The meeting will be open to public observation but not participation.

DATES: April 20-21, 2009.

Time: 8:30 a.m. to 5 p.m.

ADDRESSES: Northwestern Law School, McCormick Building, 350 East Superior Street, Room 375, Chicago, IL 60611.

FOR FURTHER INFORMATION CONTACT: John K. Rabiej, Chief, Rules Committee Support Office, Administrative Office of the United States Courts, Washington, DC 20544, telephone (202) 502-1820.

Dated: January 5, 2009.
John K. Rabiej,
Chief, Rules Committee Support Office.

[FR Doc. E9-1398 Filed 1-23-09; 8:45 am]

BILLING CODE 2210-55-M